DEPARTMENT OF HOMELAND SECURITY

Coast Guard

33 CFR Part 117

[USCG-2010-0084]

Drawbridge Operation Regulations; Long Island, New York Inland Waterway from East Rockaway Inlet to Shinnecock Canal, NY, Maintenance

AGENCY: Coast Guard, DHS.

ACTION: Notice of temporary deviation from regulations.

SUMMARY: The Commander, First Coast Guard District, has issued a temporary deviation from the regulation governing the operation of the Wreck Lead Railroad Bridge across Reynolds Channel, mile 4.4, New York. This deviation allows the bridge to remain in the closed position for six hours to facilitate bridge maintenance. Vessels that can pass under the draw without a bridge opening may do so at all times.

DATES: This deviation is effective from 9 a.m. through 3 p.m. on March 20, 2010.

ADDRESSES: Documents mentioned in this preamble as being available in the docket are part of docket USCG-2010-0084 and are available online at http://www.regulations.gov. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule call Judy Leung-Yee, Project Officer, First Coast Guard District, at (212) 668-7165. If you have questions on viewing the docket, call Renee V. Wright, Program Manager, Docket Operations, telephone 202-366-9826.

SUPPLEMENTARY INFORMATION: The Wreck Lead Railroad Bridge across Reynolds Channel at mile 4.4, New York, has a vertical clearance in the closed position of 3 feet at mean high water and 7 feet at mean low water. The bridge opens on signal as required by 33 CFR 117.799.

The bridge owner, the Long Island Rail Road (MTA), requested a temporary deviation to replace the motor locks at the bridge. The bridge can not open during the installation of the motor locks.

Under this deviation the Wreck Lead Railroad Bridge may remain closed from 9 a.m. through 3 p.m. on March 20, 2010. Vessels able to pass under the closed draw may do so at all times.

The waterway is used by recreational and commercial vessels. All known waterway users were advised of the requested bridge closure period and offered no objection. In accordance with 33 CFR 117.35(e), the bridge must return to its regular operating schedule immediately at the end of the designated time period. This deviation from the operating regulations is authorized under 33 CFR 117.35.

Dated: March 2, 2010.
Gary Kassof,
Bridge Program Manager, First Coast Guard District.

[FR Doc. 2010-5762 Filed 3-16-10; 8:45 am]

BILLING CODE 9110-04-P